DEPARTMENT OF TRANSPORTATION

Surface Transportation Board

[Finance Docket No. 34075]

Six County Association of Governments—Construction and Operation Exemption—Rail Line between Levan and Salina, UT

AGENCIES: Lead: Surface Transportation Board. Cooperating: U.S.D.I. Bureau of Land Management, DOT.

ACTION: Notice of availability of final scope of analysis for the Environmental Impact Statement (EIS).

SUMMARY: On July 30, 2001, the Six County Association of Governments (SCAOG), a regional association representing Juab, Millard, Sevier, Sanpete, Piute, and Wayne Counties in central Utah, filed a Petition for Exemption with the Surface Transportation Board (Board) pursuant to 49 U.S.C. 10502 for authority to construct and operate a new rail line between Levan and Salina, Utah. The Proposed Action, also referred to as the Central Utah Rail Project (CURP), would involve about 43 miles of new rail line and related facilities to serve shippers in central Utah, particularly the coal operations of the Southern Utah Fuels Company (SUFCO). Because constructing and operating this Proposed Action appears to have some potential to cause significant environmental impacts, the Board's Section of Environmental Analysis (SEA) has determined that preparing an Environmental Impact Statement (EIS) is appropriate.

To help determine the scope of the EIS, and as required by the Board's regulations at 49 CFR 1105.10(a), SEA published the Notice of Intent to prepare an EIS in the Federal Register on September 30, 2003, and served it on interested members of the public. On October 22 and 23, 2003, SEA held public scoping meetings in Salina and Gunnison, Utah, as part of the EIS scoping process as discussed in the Notice of Scoping Meetings and Request for Comments published by the Board on October 20, 2003.

Based on input received during the scoping process, SEA developed a Draft Scope for the EIS. On December 24, 2003, SEA published the Notice of Availability of Draft Scope for the EIS and Request for Comments in the Federal Register and made it available to the public. The scoping comment period concluded on January 26, 2004. After reviewing and considering all comments received, this notice sets forth the Final Scope of the EIS.

The Final Scope, which can be found at the end of this document, incorporates the provisions from the Draft Scope as appropriate, and includes changes made to the Draft Scope as a result of the comments. The Final Scope also summarizes and addresses the principal environmental concerns raised by the comments.

During the scoping comment period, SEA invited the U.S. Department of the Interior, Bureau of Land Management (BLM) to participate as a cooperating agency in the preparation of the EIS because the Proposed Action could affect lands administered by BLM. In a letter to the Board dated January 21, 2004, BLM accepted SEA's invitation to participate as a cooperating agency on this Proposed Action. Future references in this document to SEA include BLM.

In addition to issuing the Final Scope of the EIS, SEA is providing a 30-day comment period for interested parties to submit comments on a new proposed alternative. The new proposed alternative will be referred to as Alternative C. Citizens attending scoping meetings on October 22 and 23, 2003, proposed Alternative C as a modification to applicant's proposed alignment. SEA is seeking public comment on Alternative C in order to ensure public input in the assessment of the potential feasibility of this proposed alternative. Alternative C is discussed in detail in the supplementary information provided below. SEA will prepare a Draft EIS (DEIS) for the Proposed Action. The 30-day comment period on Alternative C is in addition to the comment period that will be provided on all aspects of the DEIS when that document is made available to the public.

Filing Environmental Comments on Alternative C: Interested persons and agencies are invited to comment on Alternative C. Written comments are due on June 14, 2004. A signed original and one copy of comments should be submitted to Surface Transportation Board, Case Control Unit, STB Finance Docket No. 34075, 1925 K Street, NW., Washington, DC 20423-001. Mark in the lower left corner of the envelope: Attention: Phillis Johnson-Ball, Environmental Filing.

FOR FURTHER INFORMATION, CONTACT: Ms. Phillis Johnson-Ball, SEA Project Manager, Section of Environmental Analysis, Surface Transportation Board, 1925 K Street, NW., Washington, DC 20423-0001. Ms. Johnson-Ball may also be reached at (202) 565-1530 (Hearing Impaired 1-800-877-8339) or e-mail: johnson-ballp@stb.dot.gov. The Web site for the Surface Transportation Board is www.stb.dot.gov.

Ms. Nancy DeMille, BLM Project Manager, Realty Specialist, Richfield Field Office, Bureau of Land Management, 150 East 900 North, Richfield, UT 84701. Ms. DeMille may also be reached at (435) 896-1515 or e-mail: Nancy_Demille@ut.blm.gov.

The Final Scope is available for review at the following locations: Salina Public Library, 90 W. Main Street, Salina, UT 84654-1353, Gunnison Public Library, 38 W. Center Street, Gunnison, UT 84634.

SUPPLEMENTARY INFORMATION:

Background

The Proposed Action, known as the CURP, would involve about 43 miles of new rail line and related facilities to serve shippers in central Utah, particularly the coal operations of the SUFCO. SCAOG would operate on average one to two loaded trains per day comprising 100 to 110 rail cars each, totaling approximately 42,000 to 44,000 loaded rail cars per year. SCAOG plans to transport coal as its principal commodity. Depending on the success of marketing the new rail service, other miscellaneous commodities could be transported. None of these commodities are expected to be hazardous.

The purpose of the Proposed Action, as set forth by SCAOG in its petition filed with Board, is to access a number of industries, primarily coal mines owned by SUFCO located 30 miles east of Salina. Due to an absence of rail access, these industries currently move all goods by truck. SCAOG believes that the Proposed Action would reduce the number of coal trucks using portions of five highways: I-70, SR-50, I-15, SR-28 and SR-10. Most segments of these roads currently carry 750 trucks per day, with 1500 trucks passing through downtown Salina each day at a rate of one truck per minute. SCAOG states that reducing the number of trucks on these roads would decrease roadway congestion, increase the quality of life through towns such as Salina, Centerfield, Gunnison and Fayette, and reduce wear and tear on state roads and interstates.

By decision served October 26, 2001, the Board issued a decision finding that, from a transportation perspective, the proposed construction and operation meet the standards in 49 U.S.C. 10502 for an exemption from the formal application procedures of 49 U.S.C. 10901. The Board will issue a final decision after completion of the environmental review process, as to whether the exemption authority should be allowed to go into effect.

Environmental Review Process

The Board is the lead agency for this EIS process, pursuant to 40 CFR 1501.5. SEA is responsible for ensuring that the Board complies with the National Environmental Policy Act (NEPA), 42 U.S.C. 4321-4335, and related environmental statutes. SEA is the office within the Board responsible for conducting the environmental review process.

The NEPA environmental review process is intended to assist the Board, the BLM and the public in identifying and assessing the potential environmental consequences of a Proposed Action and Alternatives before a decision on the Proposed Action is taken. The NEPA regulations require the Board and the BLM to consider a reasonable range of reasonable and feasible alternatives to the Proposed Action. The President's Council on Environmental Quality (CEQ), which oversees the implementation of NEPA, has stated in Forty Most Asked Questions Concerning CEQ's National Environmental Policy Act Regulations that “[R]easonable alternatives include those that are practical or feasible from the technical and economic standpoint and using common sense * * *”

In the DEIS, SEA is considering a full range of alternatives that meet the purpose and need of the Proposed Action, as well as the No-Action Alternative. Some alternatives have been dismissed from further analysis because they have been determined to be infeasible or not reasonable. The DEIS will include a brief discussion of the reasons for eliminating certain alternatives from detailed analysis and will contain an appropriate discussion of Alternative C.

In addition, the DEIS will address those environmental issues and concerns identified during the scoping process and detailed in the Draft Scope served December 24, 2003, and this Final Scope. The DEIS will also contain recommended environmental mitigation measures, as appropriate. After the DEIS is complete, SEA will make it available for public review and comment. SEA will then prepare a Final EIS (FEIS) that reflects SEA's further analysis, as appropriate, and the comments on the DEIS.

BLM as a cooperating agency pursuant to 40 CFR 1501.6 will participate during all phases of the DEIS and FEIS development and intends to adopt the EIS for BLM's decision-making purposes, as it pertains to the described public lands. Upon filing of an official right-of-way application with the BLM regarding the potentially impacted public lands, the application would be processed in accordance with BLM policies, procedures and guidelines, which would include an internal interdisciplinary team review for approval and adoption of the EIS analysis of the pertinent environmental resource issues, analysis, monitoring and mitigation (if appropriate). BLM's participation as a cooperating agency is expected to streamline the environmental review process associated with obtaining right-of-way on BLM lands.

In reaching its final future decisions on this case, the Board will take into account the full environmental record, including the DEIS, the FEIS, and all public and agency comments received.

Proposed Action and Alternatives

Based on analysis conducted to date and comments received during the scoping process, SEA has determined that the reasonable and feasible alternatives ¹ that will be discussed in the EIS are:

¹ Under NEPA, an applicant's goals are important in defining the range of feasible alternatives. NEPA does not require discussion of an alternative that is not reasonably related to the purpose of the proposal considered by the agencies. Citizens Against Burlington, Inc. v. Busey, 938 F.2d 190 (D.C. Cir. 1991).

(1) The “No-Action Alternative,” referred to as Alternative A. This alternative is the no build alternative, in which case there would be no new rail line construction and no application to BLM involving federal lands.

(2) Alternatives B and B1. These alternatives include constructing and operating the SCAOG preferred alternative as identified in its petition (Alternative B) to the Board and Alternative B1, a modification to Alternative B developed during scoping. Alternative B and Alternative B1 are shown in Figure 1, attached, as well as on a large-scale map available for viewing at the Salina Public Library, and the Gunnison Public Library (addresses listed above).

(3) As noted above, another alternative, referred to as Alternative C, was identified during the public scoping process by local landowners. According to local landowners, Alternative C was developed to minimize potential impacts to landowners' property. Because Alternative C was not considered in the Draft Scope, SEA is seeking additional information from the public to assist in determining whether Alternative C is a reasonable and feasible alternative that would meet the purpose and need of the petitioner's Proposed Action, and therefore should be analyzed in detail in the DEIS. A general description of the alignment is set forth below. Alternative C is also shown on Figure 1, attached, and on a large-scale map available for viewing at the Salina Public Library, and the Gunnison Public Library (addresses listed above). Based on the comments and its own independent investigation SEA will determine whether Alternative C is a reasonable and feasible alternative and will set forth its position in the DEIS.

Alternative A—No-Action Alternative

Consistent with the CEQ regulations implementing NEPA (40 CFR 1502.14(d)), the EIS will consider the No-Action Alternative. Under the No-Action Alternative, no new rail line or terminal facilities would be constructed. No new train operations through the Sevier Valley would be conducted, and rail operations on the UPRR line would not change. Trucks would continue to move coal from central Utah via the highways in the Sevier Valley. There would also be no application to BLM involving federal land.

Alternative B—Applicant's Proposed Action

Alternative B would involve construction of approximately 43 miles of new rail line. Alternative B would be generally north-south and would pass to the east of Chicken Creek Reservoir and through the Juab Plain, a valley between mountains to the east and west. Alternative B begins with a connection with Union Pacific Railway's mainline near Levan, Utah. The connection at UPRR would be a wye between the Juab and Sharp Sidings. The alignment would move southward and east of an irrigation pond called Chicken Creek Reservoir. The line would generally follow a path near an existing power transmission line that moves through the center of an area known as the Juab Plain. The Plain consists of the valley between two foothill and mountainous areas on the east and west. The alignment would run parallel with the eastern boundary of Yuba Reservoir, a man-made irrigation facility.

The alignment continues along the eastern shore area until it reaches the middle of Yuba where the reservoir significantly narrows at a point south of Yuba State Park. There the alignment would cross Yuba Lake. This crossing would be adjacent to a location where a high-voltage transmission line currently crosses the reservoir.

From this point, the alignment would continue southward along the western marshy boundary of Yuba. Where the alignment leaves the southern end of Yuba, it would continued southward along the western side of the Sevier Valley near points where the foothills intersect with irrigated farmlands. The alignment would continue southward on the valley's western side, passing on the west side of the town of Redmond and roughly paralleling the existing high-voltage transmission line. After passing Redmond, the alignment would move eastward towards the center of the valley. The line would cross State Highway 50 on the west side of Salina City and continues southward crossing State Highway 118 (Old Highway 89) and the Sevier River. The alignment would move along the western side of some hills near the Salina industrial park and would terminate just before reaching Interstate 70 in an area known as Lost Creek, near Salina, Utah.

Alternative B1

Alternative B1 would also involve construction of approximately 43 miles of new rail line. Alternative B1 would follow the same alignment as Alternative B to a point north of the Redmond salt mines, where it would be located to the south-southwest of Alternative B. Alternative B1 would roughly run parallel to the Paiute Canal on the east side of the canal until a point just north of Route 50 where it would gradually curve eastward, crossing Route 50 and terminating at the proposed loading facility near the Salina industrial park.

Alternative C

Alternative C, the alternative suggested by landowners during the public scoping process, which may or may not be deemed a reasonable and feasible alternative would follow the same alignment as Alternatives B and B1 until a point about 4.5 miles north of the county line between Sanpete and Sevier Counties. Alternative C would diverge from the other alignments and run south on the west side of the Piute Canal about 0.5 to 1.0 mile west of Alternative B1. It would remain east of the existing high-voltage transmission line. Alternative C would then continue south, essentially parallel to and west of Alternative B1 and the Piute Canal, and would cross the Sanpete/Sevier County border. It would reconverge with Alternative B1 about 0.5 mile north of where Alternate B crosses Route 50, about 3 miles west of Salina.

An option proposed with Alternative C would be to locate the coal-loading facility on the north side of Route 50 near its intersection with State Route 256.

Participation

Public Participation

As discussed above, SEA served a Notice of Intent in the Federal Register on September 30, 2003, announcing the start of the scoping process and the dates and times of public meetings. Additional methods used to notify the public of the scoping meetings included the following:

SEA placed paid legal advertisements in the following newspapers:

• The Salt Lake Tribune and Deseret News (statewide circulation) on October 16, 2003.

• Sanpete Messenger (Manti) on October 16, 2003.

• The Pyramid (Mt. Pleasant) on October 16, 2003.

• The Richfield Reaper (Richfield) on October 16, 2003.

• Salina Sun and Gunnison Valley News (Gunnison) on October 15, 2003.

• The Times-News (Nephi) on October 15, 2003.

SEA prepared a media release and sent it out to the media on October 20, 2003. SEA distributed about 70 newsletters to individuals on the SEA's environmental mailing list on October 14, 2003. Several media outlets ran stories about the Proposed Action before and after the public meetings. The dates and publications of those articles are listed below:

• October 8, 2003—The Richfield Reaper (Richfield).

• October 8, 2003—Gunnison Valley News and Salina Sun (Gunnison).

• October 8, 2003—The Times-News (Nephi).

• October 29, 2003—Gunnison Valley News and Salina Sun (Gunnison).

• October 29, 2003—The Richfield Reaper (Richfield).

• November 5, 2003—The Richfield Reaper (Richfield).

In October 2003, SEA held two open-house-format public scoping meetings. Below are the dates and locations of the public scoping open houses:

Wednesday, October 22, 2003

North Sevier High School, Salina, Utah.

Thursday, October 23, 2003

Gunnison City Hall, Gunnison, Utah.

Thirty-six individual comments were received at the two meetings and there were a total of 107 signatures on the attendance sheets. Following the meetings, an additional 34 written comments were received.

Agency Participation

Before the beginning of the public scoping period, SEA began inviting appropriate agencies with interests in the corridor to participate in the environmental review process. Their comments helped SEA determine what level of study was environmentally warranted for the proposed rail line. The agencies were asked to help identify potential environmental issues and concerns in the corridor. An agency scoping meeting was held on May 21, 2003, to solicit additional agency comments regarding the Proposed Action.

Letters of notification for the meeting were mailed on April 1, 2003, to about 44 agencies. These letters invited the agencies to attend the agency scoping meeting and provide comments on the Proposed Action. Project representatives made follow-up phone calls to the invitees on April 24 through April 25, 2003, and again on May 15, 2003, to ensure that the agencies received notice of the May 21, 2003, meeting. There were 29 attendees at this meeting representing 19 agencies.

These agencies were also invited to submit comments during SEA's public scoping period. A letter with project information, a request for their comments, and an invitation to the public scoping meetings was mailed to these agencies on October 14, 2003.

The comments collected from the agencies both before and during the public scoping period were used to help identify issues that need further review in the EIS process. A total of 37 agency comments were received before and during the public scoping period.

Native American Consultation

SEA initiated and followed a Tribal Consultation Plan involving federally recognized Native American tribes. The federally recognized Native American tribes represented in Utah were included in all public and agency scoping efforts. Additional outreach attempts were made to involve the tribes in the EIS process.

Utah is home to seven federally recognized Native American tribes: the Confederated Tribes of the Goshute Reservation; the Navajo Nation; the Northwestern Band of Shoshone Nation of Utah (Washakie); the Skull Valley band of Goshute of Utah, the Ute Indian Tribe of the Unitah and Ouray Reservation; the Utah Mountain Tribe of the Ute Mountain Reservation and the Paiute Indian Tribe of Utah (consisting of the Cedar City, Kanosh, Koosharen, Indian Peaks and Shivkits bands). Other federally recognized tribes have an ancestral connection to the State of Utah and have been considered in the consultation process. Below is a detailed list of coordination efforts used to involve the tribes in the EIS process.

• Tribal contacts were mailed letters of invitation to attend the agency scoping meeting on May 21, 2003.

• Invitations were mailed on May 7, 2003.

• Project representatives invited the tribes to attend a drive-through of potential rail corridor alignments on May 20, 2003.

• Phone calls were made to the tribal points-of-contact the week of May 12, 2003, inviting them to the drive-through and reminding them about the agency scoping meeting.

• Follow-up letters and a tour itinerary were sent to the tribes on May 14, 2003.

• The tribes were sent individual letters as well as project newsletters inviting them to the public scoping meetings and requesting their input on identifying sensitive environmental and cultural areas in the Central Utah Rail corridor.

• Letters were sent on October 8, 2003.

• Newsletters were sent on October 14, 2003.

• Follow-up phone calls to the tribes were made on October 14, 2003, to make sure the tribes were aware of the public scoping meetings and again requesting their comments regarding the project.

• A letter and maps were sent on request to the Skull Valley Band of Goshute Indians on January 7, 2004.

• Follow-up calls were made to the Skull Valley Band of Goshute Indians between January 8 and January 14, 2004.

In short, as part of the environmental review process to date, SEA has conducted broad public outreach activities to inform the public, agencies and federally recognized Native American tribes about the Proposed Action and alternatives and to facilitate public participation. SEA has and will continue to consult with federal, state, and local agencies, affected communities, federally recognized Native American Tribes and all interested parties to gather and disseminate information about the proposal.

Response to Comments

SEA reviewed and considered approximately 113 comments detailing 622 individual issues to prepare this Final Scope for the EIS. The Final Scope incorporates provisions of the Draft Scope with changes made as a result of these comments and SEA's further analysis. The discussion below summarizes and addresses the principal environmental concerns raised by the comments and presents additional discussion to further clarify the Final Scope.

The Draft Scope included the following impact categories: Land Use, Biological Resources, Water Resources, Geology and Soils, Air Quality, Noise, Energy Resources, Socioeconomics, Safety, Transportation Systems, Cultural and Historical Resources, Recreation, Aesthetics, Environmental Justice, and Cumulative Impacts. This Final Scope includes additional and more detailed information on these environmental issue areas based on agency and public comments.

1. Rail Operations and Safety

Comments regarding safety near the rail line and at crossings for people and animals. Several landowners expressed a concern regarding safety near the proposed new rail line. Other landowners pointed to alleged safety impacts to homes in close proximity to the rails, children living near the rails, livestock/rail collisions grazing near the rails, wildlife crossings and potential bus/rail conflict. The comments stressed the need for appropriate safety measures near proposed crossings. Several comments requested fencing along the rail line to prevent livestock from being hit on the tracks. Comments supported grade separation at all rail crossings. Utah Department of Natural Resource (UDNR) stated that the EIS should include reference to the Yuba Lake State Park entrance road.

Response. The EIS will assess potential safety impacts at at-grade crossings and the area near the proposed new line, including any crossings of the entrance road to Yuba Lake State Park. The EIS will consider mitigation measures (where appropriate) to minimize or eliminate project impacts.

Comments on daily train operations. Comments indicated a need for more information about the operation of the proposed rail line, specifically hours of operations and frequency of trains. BLM also questioned the status of contract assurances for transported goods, licensing requirements for the rail line, construction and maintenance requirements for the rail line, and impacts to existing utility rights-of-way.

Response. The EIS will address rail operations including hours of operation, frequency of trains, and any potential safety impacts related to construction and operation of the proposed rail line. The EIS will also describe the Federal Railroad Administration's regulatory framework for rail safety. The EIS will explain the Board's licensing authority as it applies to the introduction of new rail service.

Comments regarding hazardous materials transportation safety and water contamination. The Utah Department of Environmental Quality, the town of Redmond, and one landowner stated that cargo spills could contaminate local water supplies. Comments from The United States Environmental Protection Agency (EPA) requested that the EIS present information comparing the risk of spills and releases of the No-Action Alternative (transporting the coal by truck) and the feasible build alternatives.

Response. At this time, no hazardous materials are proposed to be transported over the new line. The EIS will discuss the safety risks of transport of the coal by truck and by rail, including the potential for cargo spills.

2. Land Use

General comments regarding land use. Comments questioned the potential impacts that the proposed rail line could have on public lands and grazing allotments. BLM comments stated that the EIS should address consistency with federal, state, local, and tribal land use plans.

Response. The EIS will describe existing land use patterns within the project area and identify those uses that would be affected by the proposed rail line construction and operation. Additionally, the EIS will describe potential impacts to farming, ranching and public lands. A discussion of the Proposed Action's and alternatives consistency with federal, state, local, and tribal land use plans will be included in the EIS. The EIS will reflect the input of BLM, a cooperating agency, and consultations with other agencies and organizations. The EIS will use the best available information to analyze any potential impacts in the area affected by the Proposed Action and alternatives.

Comments regarding farmland and property values. The majority of comments regarding land use stated that the proposed rail line would adversely affect existing farmland and property values. Landowners noted the potential adverse impacts to individual family farms, particularly impacts to irrigation and access on divided properties. Some commenters proposed private rail crossings as mitigation for loss of access and steel piping as mitigation for irrigation impacts.

Response. The EIS will analyze the potential effects on properties divided by the Proposed Action and any potential impacts on irrigation and mitigation (where appropriate). The social and economic effects that are reasonably foreseeable and that may result from the Proposed Action and alternatives will be analyzed.

3. Biological Resources

Comments regarding large game animals. Some comments support the proposed rail line due to the potential reduction in the number of animals killed by trucks on the highway. Other comments express concern for large game animals being killed by trains. Because the potential alignments cross large-game winter habitat along the routes, UDNR requested that wildlife surveys should be completed through the corridor.

Response. The EIS will identify wildlife corridors in the project area and describe potential impacts to large game that may be affected by operation of the proposed rail line and alternatives.

Comments regarding best management practices. Comments supported the use of best management practices to protect fish and wildlife in the corridor.

Response. The EIS will use the best available information to analyze impacts on fish and wildlife in the corridors including best management practices. The EIS will consider and evaluate the existing plant and animal communities and aquatic resources within the project area and the potential impacts on biological and aquatic resources from construction and operation of the Proposed Action and alternatives.

Comments regarding threatened and endangered species. Comments identified several threatened, endangered, and sensitive species in the corridor as well as several conservation species. The U.S. Fish and Wildlife Service noted that the peregrine falcon is no longer on the Federal Threatened and Endangered Species List. Comments requested coordination with the applicable biological resource agencies. Additional comments from landowners raised concerns about the impacts that construction would have on the neighboring ecosystems.

Response. SEA will coordinate with applicable biological resource agencies while preparing the EIS. The EIS will describe existing biological resources within the project area, including vegetative communities, wildlife and fisheries, federal and state threatened or endangered species, and the potential impacts on those resources. The EIS will address the impacts of the Proposed Action on these resources, including avoidance, minimization, and mitigation (where appropriate), depending on the potential effects identified in the EIS.

Comments regarding the Utah Division of Wildlife Resources, Redmond Wildlife Management Area. The Utah Division of Wildlife Resources (UDWR) stated that the EIS should address impacts to the Redmond Wildlife Management Area (WMA), which is protected under the Redmond Wetlands Conservation Easement. In addition, the UDNR stressed the importance of considering in the EIS impacts to wetland and upland habitats, wildlife species that rely on the WMA, public access to the WMA, and the source of water for the wetlands in the WMA. UDNR's comments also indicated that the EIS should reference Yuba Lake State Park.

Response. The EIS will consider potential impacts to the Redmond WMA and the Yuba Lake State Park and evaluate potential impacts to wetlands, plant and animal communities, scenic resources and recreational uses. The EIS will address the impacts of the Proposed Action and alternatives on these resources, including avoidance, minimization, and mitigation (where appropriate), depending on the potential effects identified in the EIS.

Comments regarding invasive species. BLM requested that the EIS address invasive and non-native species.

Response. The EIS will address the potential for the spread of invasive and non-native species as a result of the Proposed Action and alternatives.

4. Water Resources

Comments regarding interruption in water services and drainage. Landowners stated that the proposed rail line would cut irrigation canals and pipelines and interrupt the flow of irrigation water to crops and livestock. Comments requested that measures be taken to avoid existing canals and ditches. Other comments proposed relocating affected culverts, ditches, and wells as mitigation for the potential impacts of the Proposed Action. EPA and landowners also stated that the rail line would block underground field drains, sprinkler system ponds, water diversion systems, and culinary water supplies for homes and animals. BLM requested that the EIS address water uses, water availability, and water rights.

Response. The EIS will address potential impacts to existing surface water and groundwater resources, the uses of those waters, and the availability and water rights associated with those waters. Water resources will include lakes, rivers, streams, wetlands, floodplains, irrigation canals, pipelines, ditches, culverts, field drains, sprinkler system ponds, water diversion systems, groundwater wells, and culinary water supplies. The EIS will consider mitigation, as appropriate.

Comments regarding wetland areas. Comments identified wetlands areas near Chicken Creek Reservoir and Yuba Lake. Comments also stressed concerns about disrupting wetlands along the proposed rail corridor. Other comments advise that Alternative B (the Proposed Action) would cross the western point of the Redmond Wetlands Conservation Area easement, and urge the Board to avoid this easement if possible. EPA asked that the EIS include an analysis of wetland impacts sufficient to meet the requirements of the section 404 (b)(1) Guidelines found in 40 CFR part 230. EPA requested a copy of the wetland determination, and raised concerns about potential impacts to water quality from either highway or rail line petrochemical spills is another area of concern expressed by EPA. In this regard, EPA requested that comparative information be developed on the risk of petroleum product spills, coal spills, and construction sediment sediment under the No-Action Alternative, where the rail hauls that would result if this project where approved and implemented would be compared to the exiting truck hauls.

Response. The EIS will include a discussion of the potential impacts to wetlands and wetland conservation areas. The approximate acreage of impact will be calculated. The EIS will provide the approximate area of impact to wetlands along each feasible alignment. A wetlands analysis under the Clean Water Act (CWA) section 404(b)(1) is part of a permitting process that involves the petitioner and the United States Corps of Engineers (USACE). The EIS will include a discussion of the CWA section 404 permitting process. The USACE will make the jurisdictional determination regarding wetlands. The EIS will include the results of the determination, if available. The EIS will discuss the safety risks of the transport of the coal by truck and by rail, including the potential for cargo spills. Information regarding environmental impacts associated with the Proposed Action and alternatives, including the No-Action Alternative will be presented in comparative format.

Comments regarding water quality and vibration impacts. Landowners raised concerns about rail vibrations adversely affecting groundwater by suspending sediment in the water and reducing the quality of domestic and irrigation water supplies. UDWR identified the Yuba Lake as a Class 3 warm-water fishery and asked what impacts vibration from the proposed rail line would have on the lake's water quality.

Response. The EIS will consider the existing groundwater resources within the project area and the potential impacts on these resources from construction and operation, including vibration, associated with the Proposed Action and alternatives. The EIS will address potential impacts to the water quality of Yuba Lake.

Comments regarding source protection zones. The City of Redmond and local landowners stated that the proposed rail line would cross the drinking water source protection zones for their culinary water supply.

Response. The EIS will describe potential impacts to drinking water source protection zones.

5. Geology and Soils

General topographical, geological, and soil comments. Comments requested a geological survey and a soils survey near the Proposed Action. Additional comments identified landslides, rock falls, and problem soils as geological hazards along the route. A few comments questioned if blowing dust from the coal could result in soil sterilization. One comment indicated that the topography associated with Alignment C could result in higher costs than constructing and operating the B Alternative, but that ways should be considered to pass that cost on to the users of the proposed rail line. UDNR stated that the EIS should address paleontological and mineral resources.

Response. The EIS will describe the geology and soils in the project area, including unique formations, problematic/hazardous geology or soils, prime or unique farmland soils, hydric soils, mineral resources, and the potential impacts on these resources resulting from the project and all feasible build alternatives. The EIS will address potential impacts to cultural resources and will describe the results of archeological surveys conducted as part of consultations with the Utah State Historic Preservation Office.

6. Air Quality

Comments stated that the rail line would reduce air pollution by reducing the number of coal trucks on the roads. Other comments stated that the location of the proposed coal loadout near the new industrial park would contaminate the air in Salina. One comment said that there was already a high incidence of lung disease and cancer in the area due to the coal dust from the truck loadout in Salina.

EPA suggests that the EIS document current air quality conditions, using suitable data sets from ambient air monitoring programs. EPA also suggested that the EIS consider the potential cumulative impacts of this project on coal mining and other energy development in the area.

Morever, EPA indicated that the EIS should include a comprehensive air quality evaluation of effects on pollutants with regulatory standards and pollutants for which regulatory standards have not been set. EPA also requested that the EIS address all of EPA's categories of emissions and consider other air quality related values such as visibility, ozone, and particulate deposition in Class 1 areas. EPA suggested that the EIS compare the decrease in emissions from reducing truck traffic in the Sevier Valley of Utah with the expected increase in emissions that could arise from increased rail traffic. The potential for increased commercial rail transport along the proposed rail line for commodities other than coal was also mentioned by EPA as an issue area that could warrant consideration in the EIS.

Response. The Board's environmental rules, 49 CFR part 1105, establish the threshold that SEA uses to determine if a detailed air quality evaluation of the proposed construction and operation is required. The Board typically analyzes air impacts where there is an increase of at least eight trains per day, an increase in rail traffic of at least 100 percent (measured in gross ton miles annually), or an increase in rail yard activity of at least 100 percent (measured by carload activity). The Proposed Action is located in an attainment area. The Proposed Action anticipates one or two trains per day, and would not trigger the Board's environmental thresholds requiring air quality impacts analysis.

Available information obtained in consultation with SCAOG suggests that the economic feasibility of the Proposed Action is based on coal shipments from the SUFCO Mine. Based on representations by SUFCO, the volume of coal produced by the mine and subsequently shipped by train or truck should remain stable for at least 25 years (the life of the mine reserves). Thus, the available information does not suggest that any appreciable increased production at the SUFCO mine is likely if the proposed new rail line is completed. Morever, the amount of any increase that there could be is speculative. Although production at the SUFCO mine is unlikely to increase, the area does have sizeable coal reserves. For example, the Emery Mine is projected to reopen this year. Other mines in proximity to the proposed rail line could also seek permits to open and begin production. The Utah Division of Oil, Gas and Mining has advised SEA that there has been a few inquiries about possible start up of other mines in the area, but there are no pending applications.

Non-coal businesses could also use the proposed railroad. The proposed line could provide existing and future non-coal businesses that would benefit from using rail transportation with the opportunity for new marketing opportunities, which currently appear to be constrained by the trucking cost to reach a rail loading point.

In short, the potential for increased coal movements and non-coal movements exists, if the proposed new rail line is approved and becomes operational. However, the extent of the potential for increased coal production and the likelihood of new or existing non-coal businesses using the line is speculative and not reasonably foreseeable at this time. For that reason and because the proposed line is in an attainment areas, will handle only one or two trains a day, and will decrease emissions in the Sevier Valley from reduced truck traffic, a comprehensive air quality analysis would be inappropriate and will not be undertaken.

7. Cumulative and Indirect Impacts Associated With Coal Mining

EPA suggested that the EIS address indirect and cumulative impacts of the proposed rail line on coal mining, including the possibility that the SUFCO mine or other mines would expand or be altered. EPA advises that the scope of an EIS should address the requirements of 40 CFR 1508.25. EPA suggests that the Board contact the Office of Surface Mining and Utah's Division of Oil, Gas and Mining to discuss the relationship between this proposed action and the ongoing coal mining that this proposed rail line would serve.

Response. SEA contacted the Utah Energy Office and Utah Division of Oil, Gas and Mining as suggested by EPA. Both offices advised that the only mine in operation near the proposed line that would likely ship coal, at this time, is SUFCO. Given SUFCO's production projections for coal movements (2003 production was 7,125,797 short tons and 2004 projection is 7,400,000 short tons), the indirect and cumulative impacts of the project on coal mining are likely to be very small. Based on information available to SEA at this time, SEA does not believe that the proposed new rail line would significantly impact coal mining in the area or the state. Morever, available information suggests that any potential expansion or altering of coal production related to the proposed line is entirely speculative at this time.

8. Vibrations

Comments on impacts due to vibrations. Landowners expressed concerns that vibrations from trains would damage homes and personal property near the rail lines. Additional comments from landowners stated that vibrations would damage existing water wells and affect water quality by stirring sediments into the water. EPA pointed out that the change in ground vibration due to the passing trains could affect nearby residents if there are any residences adjacent to the proposed rail line.

Response. The EIS will discuss operational and construction-induced vibration. The EIS will address potential impacts to homes and water wells from vibrations resulting from train operations.

9. Noise

Comments regarding noise impacts. Comments stated that the Proposed Action would disrupt the quiet of the farming communities near the alignment. Additional concerns were raised about the effects that the noise from the Proposed Action would have on livestock due to higher background noise. UDWR stated that Yuba Lake State Park Painted Rocks Campground and Day-Use Beach should be included in the EIS as a sensitive receptor. BLM asked that impacts of noise on recreation and wildlife are potential issues that should be addressed. EPA recommended that the EIS describe the potential 55 dBA Ldn noise contour since there is potential in that contour for sensitive individuals to be affected through sleep interference or sleep depredation.

Response. Typically, SEA's approach is to analyze noise impacts that would meet or exceed the Board's thresholds (an increase in train traffic of at least eight trains per day or an increase in rail traffic of a least 100 percent measured in gross ton miles annually (see 49 CFR 1105.7e(6)) for environmental analysis as a result of the Proposed Action. Here, the petitioner maintains that it would operate on average one to two loaded trains per day. Thus, the thresholds for noise analysis are not met in this case. However, in response to concerns raised by EPA and other commenters, the EIS will briefly discuss existing noise levels and describe the potential noise impacts from constructing and operating the proposed new rail line on sensitive receptors (houses, schools, campgrounds, and parks) where the noise increase could exceed 3 dBA Ldn or where noise levels would increase to a noise level of 65 dBA Ldn or greater. The Board's regulations use an incremental increase in noise levels of three decibels Ldn or more, or an increase to a noise level of 65 Ldn or greater as noise impact analysis thresholds. Sixty-five Ldn is the standard consistently used by the Board in all of its environmental review analysis. SEA does not find that there is sufficient evidence to depart from its general practices in this case.

10. Energy Resources

General comments regarding energy. Comments regarding energy stated that local businesses would use less diesel fuel if they could replace trucks with rail service. BLM's comments noted that the U.S. Geological Survey (USGS) could be a valuable resource for mineral and energy information.

Response. The EIS will describe the potential impacts of the proposed new rail line on the distribution of energy resources in the project area, including petroleum, gas pipelines and overhead electric transmission lines.

Comments regarding mineral resources. BLM requested that the EIS address mineral resources, including mineral rights, mining claims, and known sources of saleable, leasable, and locatable minerals.

Response. The EIS will address mineral resources under Geology and Soils.

11. Socioeconomics

Comments regarding socioeconomic impacts to businesses. Comments stated that the proposed rail line would improve the area's economy by helping existing businesses remain competitive and by offering new businesses an incentive to locate in the area. Some landowners stated that the rail line would affect local farming operations and requested mitigation for those impacts. Other landowners stated that changes in the livestock environment could reduce the quality of the beef, which would translate into a loss of income. Comments expressed concern that Alternative B would result in higher costs to farmers for farm improvements due to vibrations and the impacts of the trains.

Response. The EIS will examine economic and social effects that are reasonably foreseeable and that may result from the Proposed Action and alternatives. As part of the EIS socioeconomic analysis, the EIS will analyze economic impacts, including effects on income associated with the Proposed Action and alternatives.

Comments regarding socioeconomic impacts due to property acquisitions. One landowner stated that the proposed rail line would cut through a proposed subdivision and the landowner requested that the alignment be modified to minimize this impact. Other comments asked to modify the alignment to bypass individual properties. Several property owners requested more information about individual property impacts and proposed mitigation for those impacts.

Response. The EIS will describe the potential environmental impacts on residences, residential areas, and communities in the project area. Mitigation measures (where appropriate) will be proposed to minimize or eliminate impacts associated with significant effects on the natural or physical environment.

Comments regarding loss of jobs. Two comments stated that the number of trucking jobs in the area could be reduced if fewer trucks are required to haul coal as a result of this proposal.

Response. The EIS will discuss the potential economic impacts of the Proposed Action and alternatives including effects on jobs and employment in the project area.

12. Cultural and Historical Resources

General comments regarding cultural resources. Comments stated that there are several cultural and archeological sites in the area and requested consultation with the local Native American tribal organizations. Several tribal contacts requested copies of the Cultural Resource Survey has been prepared for the area. UDNR, BLM, and the Utah State Historic Preservation Office expressed concern regarding the impacts the Proposed Action would have on cultural resources in the area.

Response. The EIS will examine the potential impacts on cultural resources and will describe the result of archaeological surveys conducted in the project area as part of consultations with the Utah State Historic Preservation Officer. SEA will continue to consult with federally recognized Native American tribal organizations.

13. Recreation

Comments regarding Painted Rocks Campground and Yuba Lake. Comments expressed concerns about impacts to the Painted Rocks Campground and Recreation Area. Alternative B would cross the reservoir at Painted Rocks. Comments expressed concern regarding the potential impacts that the proposed rail line could have on recreation facilities and boat navigational hazards because Alternative B crosses the entrance to the campground. Comments expressed concern about restricting public access and emergency response access to public facilities. UDNR stated that the EIS should discuss Yuba Lake and potential impacts to water related recreationalists and their ability to freely traverse the lake.

Response. The EIS will describe the potential impacts of the proposed project and alternatives on recreation opportunities in the project area.

Comments regarding off highway vehicles (OHVs). BLM commented that there may be a need to discuss impacts to OHV-based recreation and Special Recreation Management Areas.

Response. The EIS will address potential impacts to OHV-based recreation and Special Recreation Management Areas.

14. Aesthetics

Comments requested that the EIS describe conformance with BLM Visual Resource Management class objectives.

Response. The EIS will include a discussion of conformance with BLM VRM class objectives.

15. Environmental Justice

General comment regarding environmental justice. A landowner stated that the Proposed Action would be 100 feet from a residence with two autistic children. This landowner requested that an environmental justice analysis be undertaken. EPA asked that the EIS identify any minority or low income communities along the proposed rail corridor.

Response. The EIS will address potential impacts of the Proposed Action on environmental justice communities. The most recent Census Bureau data that is available at the time the EIS is prepared will be used. The EIS also will describe the environmental justice outreach efforts undertaken during the scoping process and throughout the preparation of the document. The Web site for the Surface Transportation Board is www.stb.dot.gov.

Decided: April 28, 2004.
By the Board, Victoria Rutson, Chief, Section of Environmental Analysis.
Vernon A. Williams,
Secretary.

BILLING CODE 4915-01-P

BILLING CODE 4915-01-C

Notice of Availability of Draft Scope of Analysis for the Environmental Impact Statement

Decided: April 28, 2004.

SUMMARY: On July 30, 2001, the Six County Association of Governments (SCAOG), a regional association representing Juab, Millard, Sevier, Sanpete, Piute, and Wayne counties in central Utah, filed a Petition for Exemption with the Surface Transportation Board (Board) pursuant to 49 U.S.C. 10502 for authority for construction and operation of a proposed new rail line between Levan and Salina, Utah. The project would involve approximately 43 miles of new rail line and ancillary facilities to serve shippers in central Utah, particularly Southern Utah Fuels Company (SUFCO) coal operations. Because the construction and operation of this project has the potential to result in significant environmental impacts, the Board's Section of Environmental Analysis (SEA) has determined that the preparation of an Environmental Impact Statement (EIS) is appropriate. SEA held public scoping meetings as part of the EIS process, as discussed in the Notice of Scoping Meetings and Request for Comments published by the Board on October 20, 2003. As part of the scoping process, SEA has developed a draft Scope of Analysis for the EIS. SEA has made available for public comment the draft Scope of Analysis contained in this notice. SEA will issue a final Scope of Analysis shortly after the close of the comment period. Written comments on the Scope of Study are due January 26, 20004.

Filing Environmental Comments: Interested persons and agencies are invited to participate in the EIS scoping process. A signed original and 10 copies of comments should be submitted to: Surface Transportation Board, Case Control Unit, STB Finance Docket No. 34075, 1925 K Street, NW., Washington, DC 20423-0001 with the following designation written in the lower left-hand corner of the envelope: Attention: Phillis Johnson-Ball, Environmental Project Manager, Environmental Filing.

FOR FURTHER INFORMATION CONTACT: Ms. Phillis Johnson-Ball, Section of Environmental Analysis, Surface Transportation Board, 1925 K Street, NW., Washington, DC 20423-0001. The Web site for the Surface Transportation Board is www.stb.dot.gov.

SUPPLEMENTARY INFORMATION:

Draft Scope of Analysis for the EIS

Proposed Action and Alternatives

The Proposed Action, known as the Central Utah Rail project, involves the construction and operation of approximately 43 miles of new rail line connecting the existing Union Pacific Railroad (UPRR) line near Levan, Utah, to a proposed coal transfer terminal facility near Salina, Utah. Implementation of the proposed project would restore rail service to the Sevier Valley, providing a more direct connection to rail service for the coal industry (primarily SUFCO), provide rail service to other shippers in the Sevier Valley, and reduce the number of trucks on highways in the Sevier Valley.

The reasonable and feasible alternatives that will be evaluated in the EIS are (1) construction and operation of the proposed project, (2) the no-action alternative, and (3) alternative alignments identified during the scoping process.

Environmental Impact Analysis

Proposed New Construction

Analysis in the EIS will address the proposed activities associated with the construction and operation of new rail facilities and their potential environmental impacts, as appropriate.

Impact Categories

The EIS will address potential impacts from the proposed construction and operation of new rail facilities on the human and natural environment. Impact areas addressed will include the categories of land use, biological resources, water resources, geology and soils, air quality, noise, energy resources, socioeconomics as they relate to physical changes in the environment, safety, transportation systems, cultural and historic resources, recreation, aesthetics, and environmental justice. The EIS will include a discussion of each of these categories as they currently exist in the project area and will address the potential impacts from the proposed project on each category as described below:

1. Land Use

The EIS will:

a. Describe existing land use patterns within the project area and identify those uses that would be potentially impacted by proposed rail line construction.

b. Describe the potential impacts associated with the proposed new rail line construction on land uses identified in the project area. Such impacts may include impacts on farming and ranching activities, incompatibility with existing land uses, and conversion of land to railroad uses.

c. Propose mitigative measures to minimize or eliminate potential project impacts on land use, as appropriate.

d. Reflect the input of BLM, a cooperating agency, and consultations with other agencies and organizations.

e. Use the best available information to analyze any potential impacts in the project area.

2. Biological Resources

The EIS will:

a. Describe existing biological resources within the project area, including vegetative communities, wildlife and fisheries, and federal and state threatened or endangered species, and the potential impacts on those resources resulting from construction and operation of proposed rail facilities.

b. Describe any wildlife sanctuaries, refuges, and national or state parks, forests, or grasslands within the project area and potential impacts on these resources resulting from construction and operation of the proposed rail line and ancillary facilities.

c. Identify wildlife corridors in the project area and describe potential impacts to large game that may be affected by construction and operation of the proposed new rail line.

d. Use best management practices to protect fish and wildlife in the corridor.

e. Propose mitigative measures to minimize or eliminate potential project impacts on biological resources, as appropriate.

3. Water Resources

The EIS will:

a. Describe the existing surface and groundwater resources within the project area, including lakes, rivers, streams, ponds, wetlands, and floodplains, and the potential impacts on these resources resulting from construction and operation of the proposed rail line and ancillary facilities.

b. Describe the permitting requirements for the proposed new rail line construction regarding wetlands, stream and river crossings, water quality, and erosion and sedimentation control.

c. Describe the existing private water wells located within the project area and potential impacts, if any, to water quality due to vibration from haul trains.

d. Describe current access to irrigation water within the project area and potential impacts due to alignment location.

e. Propose mitigative measures to minimize or eliminate potential project impacts on water resources, as appropriate.

4. Geology and Soils

The EIS will:

a. Describe the geology and soils within the project area, including unique formations, problematic/hazardous geology or soils, prime or unique farmland soils, hydric soils, and the potential impacts on these resources resulting from the construction and operation of the proposed rail line.

b. Address any potential impacts associated with fugitive dust on soils.

c. Propose mitigative measures to minimize or eliminate potential project impacts on geological resources and/or soils, as appropriate.

5. Air Quality

The EIS will:

a. Describe the attainment status of the project area, including proximity to any Class I or non-attainment area as designated under the Clean Air Act. Estimates of air emissions related to the construction and operation of the proposed new rail line will be prepared.

b. Reflect the fact that the potential for increased coal movements and non-coal movements exists; but that the potential for increased coal production and the likelihood of new or existing non-coal business is speculative and not reasonably foreseeable at this time.

c. Discuss and evaluate the potential air emissions changes from diversion of existing truck emissions to rail.

d. Propose mitigative measures to minimize or eliminate potential air quality impacts related to the construction and operation of the proposed rail line.

6. Cumulative and Indirect Impacts

a. The EIS will address the cumulative impacts on the environment that may result from the Proposed Action when added to other past, present, and reasonably foreseeable future actions, regardless of what agency or individuals undertake such actions.

b. Reasonably foreseeable indirect impacts also will be addressed.

7. Noise

The EIS will:

a. Describe the potential noise impacts of the proposed new rail line construction and operation for those sensitive receptors (houses, schools, etc.) where the increase may exceed 3 dbA Ldn or exceed a total of 65 dbA Ldn.

b. Discuss existing noise levels.

c. Propose mitigative measures to minimize or eliminate potential project impacts on noise receptors, as appropriate.

8. Energy Resources

The EIS will:

a. Describe the potential impact of the proposed new rail line on the distribution of energy resources in the project area, including petroleum and gas pipelines and overhead electric transmission lines.

b. Propose mitigative measures to minimize or eliminate potential project impacts on energy resources, as appropriate.

9. Socioeconomics

The EIS will:

a. Describe the potential environmental impacts on residences, residential areas, and communities within the project area as a result of new rail line construction and operation activities.

b. Discuss economic impacts, including impacts on income associated with the proposed project.

c. Describe the potential environmental impacts on commercial and industrial activities and development in the project area as a result of new rail line construction and operation activities.

d. Propose mitigative measures to minimize or eliminate potential project impacts on socioeconomic resources, as appropriate.

10. Safety

The EIS will:

a. Describe new at-grade rail crossings that would result from construction of the rail line and the potential for an increase in accidents related to the new rail line operations, as appropriate.

b. Describe rail operations and the potential for increased probability of train accidents, as appropriate.

c. Describe safety factors, as appropriate, for rail/pipeline crossings, if any exist in the project area.

d. Describe existing trucking operations for coal hauling and the potential for accidents from those operations.

e. Describe the potential for disruption and delays to the movement of emergency vehicles due to new rail line construction and operations.

f. Propose mitigative measures to minimize or eliminate potential project impacts on safety, as appropriate.

11. Transportation Systems

The EIS will:

a. Describe the potential impacts of new rail line construction and operation on the existing transportation network in the project area, including vehicular delays at at-grade road/rail crossings.

b. Describe potential impacts on navigation associated with the construction and operation of any proposed bridges.

c. Describe effects of current coal trucking operations on the existing road network and communities.

d. Describe current access to recreation locations within the project area and potential impacts from rail line construction and operation.

e. Propose mitigative measures to minimize or eliminate potential project impacts on transportation systems, as appropriate.

12. Cultural and Historic Resources

The EIS will:

a. Describe the potential impacts on historic structures or districts previously recorded and determined potentially eligible, eligible, or listed on the National Register of Historic Places (NRHP) that are within or immediately adjacent to the right-of-way for the proposed and alternative rail alignments.

b. Describe the potential impacts on archaeological sites previously recorded and either listed as unevaluated or determined potentially eligible, eligible, or listed on the NRHP that are within or immediately adjacent to the right-of-way for the proposed and alternative rail alignments.

c. Describe the potential impacts on historic structures or districts determined to be potentially eligible, eligible, or listed on the NRHP that are within the right-of-way for the proposed and alternative rail alignments.

d. Describe the likelihood for unrecorded, buried archaeological sites to exist within the right-of-way for the proposed and alternative rail alignments, the potential that the sites are eligible for listing on the NRHP, and the potential impact of the rail construction on the sites.

e. Describe the potential general impacts on paleontological resources in the project area due to project construction, if necessary.

f. Propose mitigative measures to minimize or eliminate potential project impacts on cultural and historic resources, as appropriate.

13. Recreation

The EIS will:

a. Describe potential impacts of the proposed new rail line construction and operation on recreational opportunities provided in the project area.

b. Propose mitigative measures to minimize or eliminate potential project impacts on recreation resources, as appropriate.

14. Aesthetics

The EIS will:

a. Describe the potential impacts of the proposed new rail line construction and operation on any areas determined to be of high visual quality.

b. Describe the potential impacts of the proposed new rail line construction and operation on any waterways designated or considered for designation as wild and scenic.

c. Discuss conformance with BLM Visual Resource Management class objectives. d.Propose mitigative measures to minimize or eliminate potential project impacts on aesthetics, as appropriate.

15. Environmental Justice

The EIS will:

a. Describe demographics in the project area and the immediate vicinity of the proposed new construction, including communities potentially impacted by the construction and operation of the proposed new rail line.

b. Evaluate whether proposed new rail line construction or operation would have a disproportionately high and adverse impact on minority or low-income groups.

c. Propose mitigative measures to minimize or eliminate potential project impacts on environmental justice communities, as appropriate.

d. Discuss any potential indirect and cumulative impacts of the proposed new rail line on coal mining in Utah.

By the Board, Victoria Rutson, Chief, Section of Environmental Analysis.

Dated:
Vernon A. Williams,
Secretary.

[FR Doc. 04-10970 Filed 5-13-04; 8:45 am]

BILLING CODE 4915-01-P